DEPARTMENT OF ENERGY

Office of Fossil Energy; Orders Granting, Amending and Vacating Authority to Import and Export Natural Gas, Including Liquefied Natural Gas

In the matter of: [FR Docket No. 99-41-NG, 02-65-LNG, 02-66-NG, 02-67-NG, 02-68-NG, 02-69-NG, 02-70-NG, 02-71-NG, 02-72-NG, 02-73-NG, 02-75-LNG, 02-76-NG, 02-74-NG, 02-77-NG, 02-78-NG, Texaco Natural Gas Inc. Duke Energy LNG Marketing and Management Company, Kimball Energy Corporation, Westcoast Gas Services Inc., Westcoast Energy (U.S.) LLC, Pioneer Natural Resources Canada Inc., Nexen Marketing U.S.A. Inc., Alliance Canada Marketing L.P., National Fuel Gas Distribution Corporation, CoEnergy Trading Company, Duke Energy Trading and Marketing, L.L.C., TransCanada Energy Ltd., WPS Energy Services, Inc., Cannat Energy Inc., WPS Energy Services of Canada Corp.,

AGENCY: Office of Fossil Energy, DOE.

ACTION: Notice of orders.

SUMMARY: The Office of Fossil Energy (FE) of the Department of Energy gives notice that during October 2002, it issued Orders granting, amending and vacating authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8:00 a.m. and 4:30 p.m., Monday through Friday, except Federal holidays.

Issued in Washington, DC, on November 7, 2002.
Clifford P. Tomaszewski,
Manager, Natural Gas Regulation, Office of Natural Gas & Petroleum Import & Export Activities, Office of Fossil Energy.

Appendix—Orders Granting, Amending and Vacating Import/Export Authorizations

Order No. | Date issued | Importer/Exporter FE docket No. | Import volume | Export volume | Comments
1488-A | 10-4-02 | Texaco Natural Gas Inc. 99-41-NG |  |  | Vacate blanket authority to export of natural gas from Mexico. —
1813 | 10-4-02 | Duke Energy LNG Marketing and Management Company, 02-65-LNG | 700 Bcf |  | Import LNG from various international sources beginning on October 4, 2002, and extending through October 3, 2004.
1814 | 10-7-02 | Kimball Energy Corporation, 02-66-NG | 75 Bcf |  | Import natural gas from Canada, beginning on April 1, 2002, and extending through March 31, 2004.
1815 | 10-8-02 | Westcoast Gas Services Inc., 02-67-NG | 200 Bcf |  | Import and export a combined total of natural gas from and to Canada, beginning on December 1, 2002, and extending through November 30, 2004.
1816 | 10-8-02 | Westcoast Energy (U.S.) LLC, 02-68-NG | 200 Bcf |  | Import and export a combined total of natural gas from and to Canada, beginning on December 1, 2002, and extending through November 30, 2004.
1817 | 10-10-02 | Pioneer Natural Resources Canada Inc., 02-69-NG | 76.8 Bcf |  | Import natural gas from Canada, beginning on October 30, 2002, and extending through October 29, 2004.
1818 | 10-23-02 | Nexen Marketing U.S.A. Inc., 02-70-NG | 200 Bcf |  | 200 Import and export a combined total of natural gas from and to Canada and Mexico, beginning on January 1, 2003, and extending through December 31, 2004.
1819 | 10-24-02 | Alliance Canada Marketing, 02-71-NG | 69.535 Bcf |  | Import natural gas from Canada, L.P. beginning on November 13, 2002, and extending through November 12, 2004.
1820 | 10-24-02 | National Fuel Gas Distribution Corporation, 02-72-NG | 33.5 Bcf |  | Import and export a combined total of natural gas from and to Canada, beginning on January 28, 2003, extending through January 27, 2005.
1821 | 10-24-02 | CoEnergy Trading Company, 02-73-NG | 150 Bcf | 100 Bcf | Import and export natural gas from and to Canada, beginning on September 30, 2002, and extending through September 29, 2004.
1822 | 10-28-02 | Duke Energy Trading and Marketing, L.L.C., 02-75-LNG | 900 Bcf |  | Import and export natural gas, including liquefied natural gas, from and to Canada and Mexico, and to import liquefied natural gas from other countries, up to a combined total, beginning on October 31, 2002, and extending through October 30, 2004.
1823 | 10-28-02 | TransCanada Energy Ltd. 02-76-NG | 700 Bcf | 300 Bcf | Import natural gas from Canada, and export a combined total of natural gas to Canada and Mexico, beginning on November 1, 2002, and extending through October 31, 2004.
1824 | 10-29-02 | WPS Energy Services, Inc. 02-74-NG | 100 Bcf | 50 Bcf | Import and export natural gas from and to Canada, beginning on November 1, 2002, and extending through October 31, 2004.
1825 | 10-29-02 | Cannat Energy Inc., 02-77-NG | 190 Bcf |  | Import natural gas from Canada, beginning on December 1, 2002, and extending through November 30, 2004.
1826 | 10-30-02 | WPS Energy Services of Canada Corp., 02-78-NG | 100 Bcf | 50 Bcf | Import and export natural gas from and to Canada, beginning on November 1, 2004, and extending through October 31, 2002.

[FR Doc. 02-28895 Filed 11-13-02; 8:45 am]

BILLING CODE 6450-01-P